DEPARTMENT OF ENERGY

Federal Energy Regulatory Commission

[Docket No. CP07-51-000]

Gulfstream Natural Gas System, L.L.C.; Notice of Application

January 5, 2007.

On December 22, 2006, in Docket No. CP07-51-000, Gulfstream Natural Gas System, L.L.C. (Gulfstream), pursuant to section 7(c) of the Natural Gas Act, as amended, and section 157 Subpart A of the Federal Energy Regulatory Commission's (Commission) regulations, filed for authorization to install, construct, own, operate and maintain certain pipeline facilities, consisting primarily of the installation of approximately 17.74 miles of 20-inch diameter pipeline and additional compression totaling 45,000 horsepower to be installed at Stations 410 and 420, as more fully described in the application ( Phase IV Project). Gulfstream further requests that the Commission grant a preliminary determination on the non-environmental aspects of this Application by May 31, 2007, with a final order granting the requested authorizations and related approvals by September 1, 2007. Gulfstream states that issuing orders by these dates will help to ensure that the Phase IV facilities are available to meet the timing needs of the Phase IV shipper and to give the Phase IV shipper and Gulfstream the economic assurance needed to go forward with their respective projects.

Questions concerning the application should be directed to: P. Martin Teague, Associate General Counsel at Gulfstream Natural Gas System, L.L.C., 5400 Westheimer Court, P.O. Box 1642, Houston, Texas 77251-1642, or by calling (713) 627-5242.

On November 21, 2006, the Commission staff granted Gulfstreams' request to utilize the Pre-Filing process and assigned Docket No. PF06-29-000 to staff activities involving the Phase IV Project. As of the filing of this application on December 29, 2006, the Pre-Filing Process for this project has ended. From this time forward, Gulfstreams' proceedings will be conducted in Docket No. CP07-51-000.

Pursuant to Section 157.9 of the Commission rules, 18 CFR 157.9 and to ensure compliance with the Energy Policy Act of 2005, upon completion of the Commission staff's environmental review for Gulfstreams' proposal, the environmental document will be placed into the record on the Commission's eLibrary system. The action of the document's placement in the record alerts the other agencies of the requirement to complete necessary reviews and authorizations within 90 days of the date of the Commission staff's environmental document.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 31, 2007.

Magalie R. Salas,
Secretary.

[FR Doc. E7-282 Filed 1-11-07; 8:45 am]

BILLING CODE 6717-01-P